DEPARTMENT OF COMMERCE

International Trade Administration

(A-533-847)

1-Hydroxyethylidene-1, 1-Diphosphonic Acid from India: Notice of Preliminary Determination of Sales at Less Than Fair Value and Postponement of Final Determination

AGENCY: Import Administration, International Trade Administration, Department of Commerce.

SUMMARY: The U.S. Department of Commerce (the Department) preliminarily determines that 1-hydroxyethylidene-1, 1-diphosphonic acid (HEDP) from India is being, or is likely to be, sold in the United States at less than fair value (LTFV), as provided in section 733(b) of the Tariff Act of 1930, as amended (the Act). The estimated margins of sales at LTFV are listed in the “Preliminary Determination” section of this notice. Interested parties are invited to comment on this preliminary determination. Pursuant to requests from interested parties, we are postponing for 60 days the final determination and extending provisional measures from a four-month period to not more than six months. Accordingly, we will make our final determination not later than 135 days after publication of the preliminary determination.

EFFECTIVE DATE: October 21, 2008.

FOR FURTHER INFORMATION CONTACT: Brian Smith and Gemal Brangman, AD/CVD Operations, Office 2, Import Administration, International Trade Administration, U.S. Department of Commerce, 14th Street and Constitution Avenue, NW, Washington, DC 20230; telephone (202) 482-1766 and (202) 482-3773, respectively.

SUPPLEMENTARY INFORMATION:

Background

On April 8, 2008, the Department initiated an antidumping duty investigation of HEDP from India. See 1-Hydroxyethylidene-1, 1-Diphosphonic Acid from the Republic of India and the People's Republic of China: Initiation of Antidumping Duty Investigations, 73 FR 20023 (April 14, 2008) (Initiation Notice). The petitioner in this investigation is Compass Chemical Co. (the Petitioner).

The Department set aside a period of time for parties to raise issues regarding product coverage and encouraged all parties to submit comments within 20 calendar days of publication of the Initiation Notice. See Initiation Notice, 73 FR at 20023; see also Antidumping Duties; Countervailing Duties; Final Rule, 62 FR 27296, 27323 (May 19, 1997).

On May 12, 2008, the United States International Trade Commission (ITC) preliminarily determined that there is a reasonable indication that imports of HEDP from India are materially injuring the U.S. industry and the ITC notified the Department of its findings. See 1-Hydroxyethylidene-1, 1-Diphosphonic Acid (HEDP) from China and India Investigation Nos. 731-TA-1146-1147 (Preliminary), 73 FR 28507 (May 16, 2008).

On May 6, 2008, we selected Aquapharm Chemicals Private Limited (Aquapharm) as the mandatory respondent in this proceeding. See Memorandum from James Maeder, Office Director, to Stephen J. Claeys, Deputy Assistant Secretary, entitled: “Antidumping Duty Investigation of 1-Hydroxyethylidene-1, 1-Diphosphonic Acid from India—Selection of Respondents for Individual Review,” dated May 6, 2008. We subsequently issued the antidumping questionnaire to Aquapharm on May 9, 2008.

On June 16, 2008, Aquapharm submitted its response to section A of the questionnaire (i.e., the section involving general information). On July 15, 2008, Aquapharm responded to sections B and C of the questionnaire (i.e., the sections involving sales to the home and U.S. markets, respectively).

On July 30, 2008, the petitioner made a timely request pursuant to 19 CFR 351.205(e) for a 50-day postponement of the preliminary determination in this investigation. On August 22, 2008, pursuant to section 733(c)(1)(A) of the Act, the Department postponed the preliminary determination until no later than October 15, 2008. See 1-Hydroxyethylidene-1, 1-Diphosphonic Acid from the Republic of India and the People's Republic of China: Postponement of Preliminary Determinations of Antidumping Duty Investigations, 73 FR 49646 (August 22, 2008).

During August and September 2008, the Department requested additional information from Aquapharm regarding its responses to sections A through C of the questionnaire. Aquapharm provided this information in September and October 2008.

On October 1, 2008, Aquapharm requested that in the event of an affirmative preliminary determination in this investigation, the Department: 1) postpone its final determination by 60 days in accordance with 19 CFR 351.210(2)(ii) and 735(a)(2)(A) of the Act; and 2) extend the application of the provisional measures prescribed under 19 CFR 351.210(e)(2) from a four-month period to a six-month period.

On October 6, 2008, the petitioner requested that in the event of a negative preliminary determination in this investigation, the Department postpone the final determination by 60 days in accordance with 19 CFR 351.210(b)(2)(i) and section 735(a)(2)(B) of the Act.

Postponement of Final Determination and Extension of Provisional Measures

Section 735(a)(2) of the Act provides that a final determination may be postponed until not later than 135 days after the date of the publication of the preliminary determination if, in the event of an affirmative preliminary determination, a request for such postponement is made by exporters, who account for a significant proportion of exports of the subject merchandise, or in the event of a negative preliminary determination, a request for such postponement is made by the petitioner. The Department's regulations, at 19 CFR 351.210(e)(2), require that requests by respondents for postponement of a final determination be accompanied by a request for extension of provisional measures from a four-month period to not more than six months.

On October 1, 2008, Aquapharm requested that in the event of an affirmative preliminary determination in this investigation, the Department postpone its final determination by 60 days. At the same time, Aquapharm requested that the Department extend the application of the provisional measures prescribed under 19 CFR 351.210(e)(2) from a four-month period to a six-month period. In accordance with section 733(d) of the Act and 19 CFR 351.210(b), because (1) our preliminary determination is affirmative, (2) the requesting exporter accounts for a significant proportion of exports of the subject merchandise, and (3) no compelling reasons for denial exist, we are granting this request and are postponing the final determination until no later than 135 days after the publication of this notice in the Federal Register. Suspension of liquidation will be extended accordingly.

Period of Investigation

The period of investigation (POI) is January 1, 2007, to December 31, 2007. This period corresponds to the four most recent fiscal quarters prior to the month of the filing of the petition.

Scope of Investigation

The merchandise covered by this investigation includes all grades of aqueous, acidic (non-neutralized) concentrations of 1-hydroxyethylidene-1, 1-diphosphonic acid¹, also referred to as hydroxethlylidenediphosphonic acid, hydroxyethanediphosphonic acid, acetodiphosphonic acid, and etidronic acid. The CAS (Chemical Abstract Service) registry number for HEDP is 2809-21-4. The merchandise subject to this investigation is currently classified in the Harmonized Tariff Schedule of the United States (HTSUS) at subheading 2931.00.9043. It may also enter under HTSUS subheading 2811.19.6090. While HTSUS subheadings are provided for convenience and customs purposes only, the written description of the scope of this investigation is dispositive.

¹ C2H8O7P2 or C(CH3)(OH)(PO3H2)2

Scope Comments

In accordance with the preamble to the Department's regulations (see Antidumping Duties; Countervailing Duties; Final Rule, 62 FR 27296, 27323 (May 19, 1997)), in our Initiation Notice we set aside a period of time for parties to raise issues regarding product coverage, and encouraged all parties to submit comments within 20 calendar days of publication of the Initiation Notice. No parties submitted scope comments in this proceeding.

Fair Value Comparisons

To determine whether sales of HEDP from India to the United States were made at LTFV, we compared the export price (EP) or constructed export price (CEP) to normal value (NV), as described in the “Export Price and Constructed Export Price” and “Normal Value” sections of this notice. In accordance with section 777A(d)(1) of the Act, we compared POI weighted-average EPs and CEPs to POI weighted-average NVs. See discussion below.

U.S. Date of Sale

It is the Department's normal practice to use the date of invoice as the date of sale. The Department's regulations provide that the Department may use a date other than the date of invoice if it is satisfied that a different date better reflects the date on which the exporter or producer establishes the material terms of sale (e.g., price and quantity). See 19 CFR 351.401(i); see also Allied Tube and Conduit Corp. v. United States, 132 F. Supp. 2d 1087, 1090-92 (CIT 2001). Aquapharm reported invoice date as its date of sale for its home market sales during the POI. However for its U.S. sales during the POI, Aquapharm reported either the invoice date, the date of what it claimed was a “long-term contract,” or purchase order date as the date of sale. For its sales of HEDP in drums made to one U.S. customer (hereafter referred to as “Customer A”) during the POI and sales of HEDP in bulk form made to the same customer after February 2, 2007, Aquapharm used the date of an email acceptance of its price/quantity offer from the customer (which Aquapharm refers to as a “long-term contract” in its questionnaire responses) as the date of sale, claiming that the essential terms of sale did not change after the email acceptance.² For its sales of HEDP in bulk form made to Customer A before February 2, 2007, Aquapharm based the date of sale on the date of the sales invoice issued at the time the HEDP was shipped from India, because it did not have a “long-term contract” in place with Customer A for HEDP in bulk form before February 2, 2007. For its POI HEDP sales to another U.S. customer (hereafter referred to as “Customer B”), Aquapharm used the date of the purchase order from the customer as the date of sale, claiming that the essential terms of sale did not change after receipt of the customer's purchase order.

² The sales process associated with Customer A is as follows: Customer A sends a request for proposal (RFP) to Aquapharm via email for certain projected annual quantities of HEDP. Aquapharm emails its RFP price offer for the stated quantities back to the customer. Aquapharm claims that the terms of sale do not change after the customer has accepted Aquapharm's offer via email. Customer A requires that Aquapharm maintain inventory in the United States at an unaffiliated warehouse for logistical convenience. Aquapharm issues two invoices for sales made to Customer A: it issues the first invoice upon shipment of the subject merchandise to the unaffiliated U.S. warehouse (this invoice does not go to the U.S. customer) and then issues a corresponding invoice to the customer at the time of delivery of the subject merchandise from the U.S. warehouse to the customer. Irrespective of its date of sale claims with respect to sales made to Customer A, Aquapharm initially reported all U.S. sales made to Customer A pursuant to invoices issued at the time of shipment from India which fell within the POI, not invoices actually issued to the customer at the time of delivery which fell within the POI. Pursuant to the Department's request, Aquapharm subsequently revised its U.S. sales reporting to also include any sales of subject merchandise made to Customer A for which the date of the sales invoice issued to the customer fell within the POI.

In this case, our examination of the submitted sample sales documentation relevant to Customer A indicates that the “long-term contract” referred to by Aquapharm is actually an exchange of emails with its customer conveying the RFP, RFP offer and acceptance of the RFP offer. This email exchange is not clear with respect to certain terms of sale (e.g., payment terms), and there is no evidence on the record to suggest that it was binding on the parties. With respect to the submitted sales documentation relevant to Customer B, the purchase order does not appear to establish all essential terms of sale (e.g., payment terms). Moreover, the respondent has not sufficiently demonstrated that material changes to the purchase order and/or “long-term contract” were not possible. In addition, with respect to the sales made to Customer A, the respondent has not sufficiently demonstrated that changes to the material terms of sale between the issuance of the invoice at the time of shipment of the subject merchandise from India (“first invoice”) and the invoice to the customer were not possible.

Therefore, for purposes of the preliminary determination, we have used the date of the sales invoice issued to the U.S. customer as the date of sale for all of the respondent's POI U.S. sales of HEDP. As discussed above, the terms of the purchase order or “long-term contract” did not appear to be binding on the parties, nor did it appear to establish all essential terms of sale. Furthermore, the respondent has not sufficiently demonstrated its claim that in the normal course of business no changes to the material terms of sale are possible between the date of “long-term contract” or purchase order, and the date of invoice to the customer.

U.S. Sales Type Designation

Section 772(a) of the Act defines EP as “the price at which the subject merchandise is first sold (or agreed to be sold) before the date of importation by the producer or exporter of the subject merchandise outside the United States to an unaffiliated purchaser in the United States or to an unaffiliated purchaser for exportation to the United States .” (Emphasis added.) Section 772(b) defines CEP as “the price at which the subject merchandise is first sold (or agreed to be sold) in the United States before or after the date of importation by or for the account of the producer or exporter of such merchandise or by a seller affiliated with the producer or exporter, to a purchaser not affiliated with the producer or exporter .” (Emphasis added.)

Aquapharm characterized its U.S. sales to Customer A as EP sales, and its sales to Customer B as both EP and CEP depending on the sales/distribution channel.³ With respect to its sales to Customer A, Aquapharm claims that because the essential terms of sale are set by it in India on the date of “long-term contract” (or date of “first invoice” in the case of sales of HEDP in bulk form before February 2, 2007) prior to importation of the subject merchandise into the United States, these sales should be classified as EP sales. However, only after the merchandise enters the United States, is placed in an unaffiliated warehouse and is released for delivery to Customer A does Aquapharm issue the sales invoice to Customer A.

³ We have accepted Aquapharm's sales type designation for sales made to Customer B for purposes of the preliminary determination.

Given that we have preliminarily determined that the date of the sales invoice issued to the U.S. customer is the appropriate basis for the U.S. date of sale, Aquapharm's EP sales classification with respect to Customer A no longer holds because the invoice is issued to the customer, and thus the sale is made, after the merchandise is imported into the United States. Therefore, for the preliminary determination, we are treating all of Aquapharm's U.S. sales to Customer A as CEP sales transactions, consistent with the definition of CEP under section 772(b) of the Act, because the sales were made after importation of the subject merchandise into the United States.

Export Price and Constructed Export Price

In accordance with section 772(a) of the Act, we calculated EP for those sales where the subject merchandise was sold to the first unaffiliated purchaser in the United States prior to importation by the exporter or producer outside the United States. We based EP on the packed price to unaffiliated purchasers in the United States. Where appropriate, we adjusted prices for billing adjustments. We made deductions for movement expenses in accordance with section 772(c)(2)(A) of the Act; these included, where appropriate, foreign inland freight from plant to the port of exportation, foreign inland insurance, foreign brokerage and handling, U.S. brokerage and handling, international freight, U.S. inland freight to customer, marine insurance, and U.S. customs duties (including harbor maintenance fees and merchandise processing fees).

Pursuant to section 772(b) of the Act, we calculated CEP for those sales where the subject merchandise was sold in the United States after the date of importation by or for the account of the producer or exporter to a purchaser not affiliated with the producer or exporter.

We based CEP on the packed delivered prices to unaffiliated purchasers in the United States. When appropriate, we adjusted prices for billing adjustments. We made deductions for movement expenses, in accordance with section 772(c)(2)(A) of the Act; these included, where appropriate, foreign inland freight from plant to the port of exportation, foreign inland insurance, foreign brokerage and handling, U.S. brokerage and handling, international freight, marine insurance, U.S. customs duties (including harbor maintenance fees and merchandise processing fees), and warehouse expenses. Consistent with the U.S. date of sale determination discussed above, we treated warehouse expenses as pre-sale expenses associated with the movement of the subject merchandise to the U.S. market. In accordance with section 772(d)(1) of the Act and 19 CFR 351.402(b), we deducted those selling expenses associated with economic activities occurring in the United States, including direct selling expenses (i.e., credit expenses, commissions, and bank charges), and indirect selling expenses (including inventory carrying costs). We also deducted from CEP an amount for profit in accordance with sections 772(d)(3) and (f) of the Act. See Calculation Memorandum dated October 15, 2008, for further discussion of the CEP profit calculation.

Normal Value

A. Home Market Viability and Comparison Market Selection

To determine whether there was a sufficient volume of sales in the home market to serve as a viable basis for calculating NV (i.e., the aggregate volume of home market sales of the foreign like product is equal to or greater than five percent of the aggregate volume of U.S. sales), we compared Aquapharm's volume of home market sales of the foreign like product to the volume of U.S. sales of the subject merchandise, in accordance with section 773(a)(1)(C) of the Act. Based on this comparison, we determined that Aquapharm had a viable home market during the POI. Consequently, we based NV on home market sales.

B. Level of Trade

In accordance with section 773(a)(1)(B) of the Act, to the extent practicable, we determine NV based on sales in the comparison market at the same level of trade (LOT) as the EP or CEP. Pursuant to 19 CFR 351.412(c)(1), the NV LOT is that of the starting-price sales in the comparison market or, when NV is based on constructed value, that of the sales from which we derive selling, general and administrative expenses, and profit. For EP, the U.S. LOT is also the level of the starting-price sale, which is usually from exporter to importer. For CEP, it is the level of the constructed sale from the exporter to the importer.

To determine whether NV sales are at a different LOT than EP or CEP sales, we examine stages in the marketing process and selling functions along the chain of distribution between the producer and the unaffiliated customer. See 19 CFR 351.412(c)(2). If the comparison-market sales are at a different LOT, and the difference affects price comparability, as manifested in a pattern of consistent price differences between the sales on which NV is based and comparison- market sales at the LOT of the export transaction, we make an LOT adjustment under section 773(a)(7)(A) of the Act. Finally, for CEP sales, if the NV level is more remote from the factory than the CEP level and there is no basis for determining whether the difference in levels between NV and CEP affects price comparability, we adjust NV under section 773(a)(7)(B) of the Act (the CEP-offset provision). See Notice of Final Determination of Sales at Less Than Fair Value: Certain Cut-to-Length Carbon Steel Plate from South Africa, 62 FR 61731, 61732 (November 19, 1997).

In this investigation, we obtained information from Aquapharm regarding the marketing stages involved in making its reported home market and U.S. sales, including a description of the selling activities performed by the respondent for each channel of distribution.

As discussed above in the “U.S. Date of Sale” and “U.S. Sales Type Designation” sections of this notice, for purposes of this preliminary determination, we relied on the sales invoice issued to the U.S. customer for determining the U.S. date of sale and Aquapharm's U.S. sales reporting requirement. As a result of relying on the sales invoice to the U.S. customer as the basis for determining the date of sale, we also designated all of Aquapharm's sales to Customer A as CEP sales. Therefore, we have taken this sales reclassification determination into account in our preliminary LOT analysis below.

Aquapharm had CEP sales in the U.S. market through the following channel of distribution: sales through an unaffiliated U.S. selling agent to two unaffiliated U.S. distributors of HEDP maintained in inventory at an unaffiliated U.S. warehouse (Channel 1). In addition, Aquapharm had EP sales in the U.S. market through the following channel of distribution: direct sales/shipments to an unaffiliated U.S. distributor (Channel 2).

We examined the selling activities performed for both U.S. sales channels and found that Aquapharm performed the following selling functions for each channel: sales forecasting, order input/processing, direct sales personnel, packing, freight and delivery services, inventory maintenance, technical assistance, warranty service, and after-sales service. These selling activities can be generally grouped into four selling function categories for analysis: 1) sales and marketing; 2) freight and delivery; 3) warehousing and inventory; and 4) warranty and technical support. Accordingly, based on the four selling function categories, we find that Aquapharm performed sales and marketing, freight and delivery services, and warranty and technical services for U.S. sales. Although Aquapharm performed additional freight and delivery functions (such as repacking) and warehousing functions for its sales through Channel 1, we did not find these differences to be material selling function distinctions which are significant enough to warrant a separate LOT in the U.S. market. Therefore, we preliminarily determine that there is one LOT in the U.S. market because Aquapharm performed essentially the same selling functions for all U.S. sales.

With respect to the home market, Aquapharm made sales through the following channels of distribution: 1) sales to unaffiliated end-users (Channel 1); and 2) sales to unaffiliated distributors (Channel 2). We examined the selling activities performed for each home market sales channel and found that Aquapharm performed the following selling functions for sales made through both channels: sales forecasting, order input/processing, advertising, direct sales personnel, sales/marketing support, market research, packing, freight and delivery services, inventory maintenance, technical assistance, and warranty service. Accordingly, based on the four selling function categories, we find that Aquapharm performed sales and marketing, freight and delivery services, inventory maintenance and warehousing, and warranty and technical services in the home market. Moreover, we did not find any significant distinctions between the selling functions Aquapharm performed in each home market channel to warrant a separate LOT in the home market. Therefore, we preliminarily determine that there is one LOT in the home market because Aquapharm performed essentially the same selling functions for all home market sales.

Finally, we compared the U.S. LOT to the home market LOT and found that the selling functions performed for home market sales are either performed at the same degree of intensity as, or vary only slightly from, the selling functions performed for U.S. sales. Specifically, we found that with respect to the four selling function categories, there are only slight differences in the level of intensity between the home and U.S. markets which are not a sufficient basis to determine separate LOTs between the two markets. Therefore, we find that the single NV LOT and single U.S. LOT are the same. Accordingly, we matched U.S. and home market sales at the same LOT.

C. Calculation of Normal Value Based on Comparison Market Prices

We based NV for Aquapharm on delivered prices to unaffiliated customers in the home market. We made deductions, where appropriate, from the starting price for inland freight expenses and inland insurance expenses, under section 773(a)(6)(B)(ii) of the Act. Where appropriate, we also added freight and insurance revenue to the starting price.

Pursuant to section 773(a)(6)(C)(iii) of the Act and 19 CFR 351.410(b), we made, where appropriate, circumstance-of-sale adjustments for imputed credit expenses and bank charges. We also made adjustments in accordance with 19 CFR 351.410(e) for indirect selling expenses incurred on comparison market or U.S. sales where commissions were granted on sales in one market but not the other. Specifically, for comparisons to CEP, we made an adjustment to NV for home market indirect selling expenses and inventory carry costs to offset U.S. commissions. We also deducted home market packing costs and added U.S. packing costs, in accordance with sections 773(a)(6)(A) and (B) of the Act.

Currency Conversion

We made currency conversions into U.S. dollars in accordance with section 773A(a) of the Act based on exchange rates in effect on the dates of the U.S. sales, as certified by the Federal Reserve Bank.

Verification

As provided in section 782(i) of the Act, we intend to verify all information relied upon in making our final determination for Aquapharm.

Preliminary Determination

The weighted-average dumping margins in the preliminary determination are as follows:

Manufacturer/Exporter | Weighted-Average Margin (percent)
Aquapharm Chemicals Pvt. Ltd. | 3.91
All Others | 3.91

Suspension of Liquidation

In accordance with section 733(d)(2) of the Act, we are directing CBP to suspend liquidation of all entries of HEDP from India as described in the “Scope of Investigation” section that are entered, or withdrawn from warehouse, for consumption on or after the date of publication of this notice in the Federal Register. We are also instructing CBP to require a cash deposit or the posting of a bond equal to the weighted-average dumping margins, as indicated above. These suspension-of-liquidation instructions will remain in effect until further notice.

All Others Rate

Section 735(c)(5)(4) of the Act provides that the estimated “All Others” rate shall be an amount equal to the weighted average of the estimated weighted-average dumping margins established for exporters and producers individually investigated, excluding any zero or de minimis margins, and any margins determined entirely under section 776 of the Act. Aquapharm is the only respondent in this investigation for which the Department calculated a company-specific rate. Therefore, for purposes of determining the “All Others” rate and pursuant to section 735(c)(5)(4) of the Act, we are using the weighted-average dumping margin calculated for Aquapharm, as referenced above. See, e.g., Notice of Final Determination of Sales at Less Than Fair Value: Stainless Steel Sheet and Strip in Coils From Italy, 64 FR 30750, 30755 (June 8, 1999); Final Affirmative Countervailing Duty Determination: Pure Magnesium From Israel, 66 FR 49351, 49353 (September 27, 2001); and Notice of Final Determination of Sales at Less Than Fair Value: Coated Free Sheet Paper from Indonesia, 72 FR 60636 (October 25, 2007).

Disclosure

We will disclose the calculations performed in connection with our preliminary determination to parties in this proceeding in accordance with 19 CFR 351.224(b).

ITC Notification

In accordance with section 733(f) of the Act, we have notified the ITC of the Department's preliminary affirmative determination. If the Department's final determination is affirmative, pursuant to section 735(b)(2) of the Act, the ITC will determine before the later of 120 days after the date of this preliminary determination or 45 days after our final determination whether imports of HEDP from India are materially injuring, or threaten material injury to, the U.S. industry. Because we have postponed the deadline for our final determination to 135 days from the date of the publication of this preliminary determination, the ITC will make its final determination within 45 days of our final determination.

Public Comment

Interested parties are invited to comment on the preliminary determination. Interested parties may submit case briefs to the Department no later than seven days after the date of the issuance of the verification report in this proceeding. Rebuttal briefs, the content of which is limited to the issues raised in the case briefs, must be filed within five days from the deadline date for the submission of case briefs. A list of authorities used, a table of contents, and an executive summary of issues should accompany any briefs submitted to the Department. Executive summaries should be limited to five pages total, including footnotes. Further, we request that parties submitting briefs and rebuttal briefs provide the Department with a copy of the public version of such briefs on diskette. In accordance with section 774 of the Act, the Department will hold a public hearing, if timely requested, to afford interested parties an opportunity to comment on arguments raised in case or rebuttal briefs, provided that such a hearing is requested by an interested party. If a timely request for a hearing is made in this investigation, we intend to hold the hearing two days after the rebuttal brief deadline date at the U.S. Department of Commerce, 14th Street and Constitution Avenue, NW, Washington, DC 20230, at a time and in a room to be determined. Parties should confirm by telephone, the date, time, and location of the hearing 48 hours before the scheduled date.

Interested parties who wish to request a hearing, or to participate in a hearing if one is requested, must submit a written request to the Assistant Secretary for Import Administration, U.S. Department of Commerce, Room 1870, within 30 days of the publication of this notice. Requests should contain: (1) the party's name, address, and telephone number; (2) the number of participants; and (3) a list of the issues to be discussed. At the hearing, oral presentations will be limited to issues raised in the briefs.

This determination is issued and published pursuant to sections 733(f) and 777(i)(1) of the Act.

Dated: October 15, 2008.
David M. Spooner,
Assistant Secretary for Import Administration.

[FR Doc. E8-25026 Filed 10-20-08; 8:45 am]

BILLING CODE 3510-DS-S